NATIONAL TRANSPORTATION SAFETY BOARD

Sunshine Act Meeting

Time and Date: 9:30 a.m., April 7, 2009.

Place: NTSB Conference Center, 429 L'Enfant Plaza, SW., Washington, DC 20594.

Status: The one item is open to the public.

Matter to be Considered:

8087 Aviation Accident Report—In-Flight Left Engine Fire, American Airlines Flight 1400, McDonnell Douglas DC-9-82, N454AA, St. Louis, Missouri, September 28, 2007.

News Media Contact: Telephone: (202) 314-6100.

The press and public may enter the NTSB Conference Center one hour prior to the meeting for set up and seating.

Individuals requesting specific accommodations should contact Rochelle Hall at (202) 314-6305 by Friday, April 3, 2009.

The public may view the meeting via a live or archived Webcast by accessing a link under “News & Events” on the NTSB home page at http://www.ntsb.gov.

FOR FURTHER INFORMATION CONTACT: Vicky D'Onofrio, (202) 314-6410.

Dated: March 26, 2009.
Vicky D'Onofrio,
Federal Register Liaison Officer.

[FR Doc. E9-7181 Filed 3-26-09; 4:15 pm]

BILLING CODE 7533-01-P